TENNESSEE VALLEY AUTHORITY

Paperwork Reduction Act of 1995, as Amended by Public Law 104-13; Proposed Collection, Comment Request

AGENCY: Tennessee Valley Authority.

ACTION: Proposed collection; comment request.

SUMMARY: The proposed information collection described below will be submitted to the Office of Management and Budget (OMB) for review, as required by the Paperwork Reduction Act of 1995 (44 U.S.C. Chapter 35, as amended). The Tennessee Valley Authority is soliciting public comments on this proposed collection as provided by 5 C.F.R. section 1320.8(d)(1). Requests for information, including copies of the information collection proposed and supporting documentation, should be directed to the Agency Clearance Officer: Wilma H. McCauley, Tennessee Valley Authority, 1101 Market Street (EB 5B), Chattanooga, Tennessee 37402-2801; (423) 751-2523.

DATES: Comments should be sent to the Agency Clearance Officer no later than August 3, 2001.

SUPPLEMENTARY INFORMATION: Type of Request: Regular submission.

Title of Information Collection: Power Distributor Monthly and Annual Reports to TVA.

Frequency of Use: Monthly and Annual.

Type of Affected Public: Business or Local Government.

Small Businesses or Organizations Affected: Yes.

Federal Budget Functional Category Code: 271.

Estimated Number of Annual Responses: 2,054.

Estimated Total Annual Burden Hours: 3,792.

Estimated Average Burden Hours Per Response: 1.8 hours.

Need For and Use of Information: This information collection supplies TVA with financial and accounting information to help ensure that electric power produced by TVA is sold to consumers at rates which are as low as feasible.

Jacklyn J. Stephenson,
Senior Manager, Enterprise Operations Information Services.

[FR Doc. 01-13938 Filed 6-1-01; 8:45 am]

BILLING CODE 8120-08-U